NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by November 2, 2017. This application may be inspected by interested parties at the Permit Office, address below.

ADDRESSES: Comments should be addressed to Permit Office, Office of Polar Programs, National Science Foundation, 2415 Eisenhower Ave., Alexandria, Virginia 22331.

FOR FURTHER INFORMATION CONTACT: Nature McGinn, ACA Permit Officer, at the above address, at 703-292-8030, or ACApermits@nsf.gov.

SUPPLEMENTARY INFORMATION: The National Science Foundation, as directed by the Antarctic Conservation Act of 1978 (Pub. L. 95-541, 45 CFR 671), as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 2018-007

1. Applicant: Robin West, Director of Expedition Operations, Onboard Revenue, Seabourn Quest, Seabourn Cruise Line Ltd., 450 Third Ave. W., Seattle, WA 98119.

Activity for Which Permit is Requested: Waste Management. The applicant proposes to operate a small, battery-operated remotely piloted aircraft system (RPAS) consisting, in part, of a quadcopter equipped with a camera to collect commercial and educational footage of the Antarctic, as well as for ice reconnaissance. The quadcopter would not be flown over concentrations of birds or mammals, or over Antarctic Specially Protected Areas. The RPAS would only be operated by pilots with extensive experience (≤20 hours), who are pre-approved by the Expedition Leader. Several Measures would be taken to prevent against loss of the quadcopter including a highly visible paint color; only operating when the wind is less than 25 knots; operating for only 15 minutes at a time to preserve battery life; having prop guards on propeller tips; using a flotation device if operated over water; a “fail-safe and auto go home” feature in the case of a loss of control link or low battery; having an observer on the lookout for wildlife, people, and other hazards; and ensuring that the separation between the operator and quadcopter does not exceed an operational range of 500 meters. The applicant is seeking a Waste Permit to cover any accidental releases that may result from operating the RPAS.

Location: Antarctic Peninsula Region.

Dates: November 1, 2017-March 31, 2018.

Permit Application: 2018-014

2. Applicant: Dwayne Stevens, Marine Operations Manager, Lindblad Expeditions, 1415 Western Ave., Suite 700, Seattle, WA 98101.

Activity for Which Permit is Requested: Waste Management. The applicant proposes to operate small, battery-operated remotely piloted aircraft systems (RPAS) consisting, in part, of a quadcopter equipped with cameras to collect commercial and educational footage of the Antarctic. The quadcopters would not be flown over concentrations of birds or mammals, or over Antarctic Specially Protected Areas or Historic Sites and Monuments. The RPAS would only be operated by pilots with a minimum of 16 hours of flight experience, who are pre-approved by Lindblad Expeditions. Several Measures would be taken to prevent against loss of the quadcopters including only operating when the wind is less than 25 knots; only operating over water after launching from an inflatable Zodiac boat; and having an observer maintaining visual contact with the quadcopter at all times. The applicant is seeking a Waste Permit to cover any accidental releases that may result from operating the RPAS.

Location: Antarctic Peninsula Region.

Dates: November 1, 2017-March 31, 2021.

Permit Application: 2018-015

3. Applicant: Brandon Harvey, Direction Expedition Operations, Polar Latitudes, Inc., 2206 Jericho Street, White River Junction, VT 05001.

Activity for Which Permit is Requested: Waste Management. For Coastal Camping: The applicant seeks permission for no more than 30 campers and two expedition staff to camp overnight at select locations for a maximum of 10 hours ashore. Camping would be away from vegetated sites and at least 150m from wildlife concentrations or lakes, protected areas, historical sites, and scientific stations. Tents would be pitched on snow, ice, or bare smooth rock, at least 15m from the high-water line. No food, other than emergency rations, would be brought onshore and all wastes, including human waste, would be collected and returned to the ship for proper disposal. The applicant is seeking a Waste Permit to cover any accidental releases that may result from camping. For remotely piloted aircraft systems (RPAS) operation: The applicant proposes to operate small, battery-operated RPAS consisting, in part, of a quadcopter equipped with cameras to collect commercial and educational footage of the Antarctic. The quadcopter would not be flown over concentrations of birds or mammals, or over Antarctic Specially Protected Areas or Historic Sites and Monuments. The RPAS would only be operated by pilots with extensive experience, who are pre-approved by the Expedition Leader. Several measures would be taken to prevent against loss of the quadcopter including painting them a highly visible color; only flying when the wind is less than 25 knots; flying for only 15 minutes at a time to preserve battery life; having prop guards on propeller tips, a flotation device if operated over water, and an “auto go home” feature in case of loss of control link or low battery; having an observer on the lookout for wildlife, people, and other hazards; and ensuring that the separation between the operator and quadcopter does not exceed an operational range of 500 meters. The applicant is seeking a Waste Permit to cover any accidental releases that may result from operating the RPAS.

Location: Camping: Possible locations include Damoy Point/Dorian Bay, Danco Island, Rongé Island, the Errera Channel, Paradise Bay (including Almirante Brown/Base Brown or Skontorp Cove), the Argentine Islands, Andvord Bay, Pleneau Island, Hovgaard Island, Orne Harbour, Leith Cove, Prospect Point and Portal Point. RPAS operations: Western Antarctic Peninsula region.

Dates: October 30, 2017-March 30, 2022.

Permit Application: 2018-017

4. Applicant: Conrad Combrink, Vice President, Expedition Planning & Strategic Development, Silversea Cruises, Ltd., Wells Fargo Center, 333 Southeast 2nd Avenue, Suite 2600, Miami, Florida 33131.

Activity for Which Permit is Requested: Waste Management. The applicant proposes to operate small, battery-operated remotely piloted aircraft systems (RPAS) consisting, in part, of a quadcopter equipped with cameras to collect commercial and educational footage of the Antarctic. The quadcopter would not be flown over concentrations of birds or mammals, or over Antarctic Specially Protected Areas or Historic Sites and Monuments. The RPAS would only be operated by pilots with extensive experience, who are pre-approved by the Expedition Leader. Several measures would be taken to prevent against loss of the quadcopter including painting them a highly visible color; only flying when the wind is less than 25 knots; flying for only 15 minutes at a time to preserve battery life; having prop guards on propeller tips, a flotation device if operated over water, and an “auto go home” feature in case of loss of control link or low battery; having an observer on the lookout for wildlife, people, and other hazards; and ensuring that the separation between the operator and quadcopter does not exceed an operational range of 500 meters. The applicant is seeking a Waste Permit to cover any accidental releases that may result from operating the RPAS.

Location: Antarctic Peninsula Region.

Dates: November 15, 2017-March 30, 2018.

Nadene G. Kennedy,
Polar Coordination Specialist, Office of Polar Programs.

[FR Doc. 2017-21132 Filed 10-2-17; 8:45 am]

BILLING CODE 7555-01-P